DEPARTMENT OF COMMERCE

International Trade Administration

[C-580-869]

Large Residential Washers From the Republic of Korea: Postponement of Preliminary Determination in the Countervailing Duty Investigation

AGENCY: Import Administration, International Trade Administration, Department of Commerce.

FOR FURTHER INFORMATION CONTACT: Justin Neuman, AD/CVD Operations, Office 6, Import Administration, International Trade Administration, U.S. Department of Commerce, 14th Street and Constitution Avenue NW., Washington, DC 20230; telephone: (202) 482-0486.

SUPPLEMENTARY INFORMATION:

Background

On January 19, 2012, the Department of Commerce (the Department) initiated the countervailing duty investigation of large residential washers from the Republic of Korea. See Large Residential Washers From the Republic of Korea: Initiation of Countervailing Duty Investigation, 77 FR 4279 (January 27, 2012). The current deadline for the completion of the preliminary determination is March 26, 2012.¹

¹ The statutory deadline for the preliminary determination is March 24, 2012, which is a Saturday. When the statutory deadline falls on a weekend, it is the Department's practice to issue the determination on the next business day, which in this case would be March 26, 2012. See Notice of Clarification: Application of “Next Business Day” Rule for Administrative Determination Deadlines Pursuant to the Tariff Act of 1930, As Amended, 70 FR 24533 (May 10, 2005) (Next Business Day Rule).

Postponement of Due Date for the Preliminary Determination

Section 703(b)(1) of the Tariff Act of 1930, as amended (the Act), requires the Department to issue the preliminary determination in a countervailing duty investigation within 65 days after the date on which the Department initiated the investigation. However, the Department may postpone making the preliminary determination until no later than 130 days after the date on which the administering authority initiated the investigation if, among other reasons, the petitioner makes a timely request for an extension pursuant to section 703(c)(1)(A) of the Act. In the instant investigation, the petitioner, Whirlpool Corporation, made a timely request on February 28, 2012, requesting a postponement of the preliminary countervailing duty determination to 130 days from the initiation date. See 19 CFR 351.205(e) and the petitioner's February 28, 2012, letter requesting postponement of the preliminary determination.

Therefore, pursuant to 703(c)(1)(A) of the Act and because the Department does not find any compelling reason to deny the request, we are extending the due date for the preliminary determination to no later than 130 days after the date on which this investigation was initiated, or May 28, 2012. Because May 28, 2012, falls on a federal holiday, the deadline for the completion of the preliminary determination is now May 29, 2012, the first business day after the 130th day from initiation. See Next Business Day Rule.

This notice is issued and published pursuant to section 703(c)(2) of the Act and 19 CFR 351.205(f)(l).

Dated: March 1, 2012.
Ronald K. Lorentzen,
Acting Assistant Secretary for Import Administration.

[FR Doc. 2012-5567 Filed 3-6-12; 8:45 am]

BILLING CODE 3510-DS-P